DEPARTMENT OF HEALTH AND HUMAN SERVICES

Office of the Secretary

Input for a Strategic Plan for Federal Youth Policy

AGENCY: Office of the Assistant Secretary for Planning and Evaluation, DHHS.

ACTION: Notice of request for public comments.

SUMMARY: The U.S. Department of Health and Human Services, in its role as the Chair of the Interagency Working Group on Youth Programs requests public comments to inform the development of a strategic plan for Federal youth policy.

DATES: Comments must be received on or before January 20, 2011.

ADDRESSES: You may submit comments electronically through the FindYouthInfo.gov Web site via http://www.findyouthinfo.gov/provideinput.aspx. You may e-mail them to FindYouthInfo@air.org. You may mail them to Sarah Potter, Office of the Assistant Secretary for Planning and Evaluation, U.S. Department of Health and Human Services, 200 Independence Avenue, SW., Room 404E, Washington, DC 20201. To ensure proper handling, in the lower left hand corner of the envelope and in your correspondence clearly reference “Strategic Plan for Federal Youth Policy.”

FOR FURTHER INFORMATION CONTACT: Visit the Web site for the Interagency Working Group on Youth Programs at http://www.FindYouthInfo.gov; call FindYouthInfo.gov helpline at 1-877-231-7843 (this is a toll-free number); or e-mail your inquiry to FindYouthInfo@air.org.

SUPPLEMENTARY INFORMATION:

I. Overview of the Interagency Working Group on Youth Programs and FindYouthInfo.gov

The Interagency Working Group on Youth Programs is comprised of staff from twelve Federal agencies that support programs and services that focus on youth: the U.S. Department of Agriculture; U.S. Department of Commerce; U.S. Department of Defense; U.S. Department of Education; U.S. Department of Health and Human Services (Chair); U.S. Department of Housing and Urban Development; U.S. Department of Justice (Vice-Chair); U.S. Department of Labor; U.S. Department of the Interior; U.S. Department of Transportation; Corporation for National and Community Service; and Office of National Drug Control Policy.

The Working Group seeks to promote achievement of positive results for at-risk youth through the following activities:

• Promoting enhanced collaboration at the Federal, State, and local levels, including with faith-based and other community organizations, as well as among families, schools and communities, in order to leverage existing resources and improve outcomes;

• Disseminating information about critical resources, including evidence-based programs, to assist interested citizens and decision-makers, particularly at the community level, to plan, implement, and participate in effective strategies for at-risk youth;

• Developing an overarching strategic plan for Federal youth policy, as well as recommendations for improving the coordination, effectiveness and efficiency of youth programs, using input from community stakeholders, including youth; and

• Producing a Federal Web site, FindYouthInfo.gov, to promote effective community-based efforts to reduce the factors that put youth at risk and to provide high-quality services to at-risk youth.

II. Background on the Strategic Plan for Federal Youth Policy

On March 11, 2009, the Congress passed the Omnibus Appropriations Act, 2009 (Pub. L. 111-8). The House Appropriations Committee Print, Division F—Departments of Labor, Health and Human Services, and Education, and Related Agencies Appropriations directed the Interagency Working Group on Youth Programs to solicit input from young people, State children's cabinet directors, and non-profit organizations on youth programs and policies; develop an overarching strategic plan for Federal youth policy; and prepare recommendations to improve the coordination, effectiveness, and efficiency of programs affecting youth.

The Interagency Working Group on Youth Programs developed a framework to guide development of the strategic plan for Federal youth policy. This framework is available online at http://www.findyouthinfo.gov/provideinput.aspx. The framework illustrates how programs and practices—such as (1) Physical and mental health and wellness; (2) education; (3) juvenile justice intervention; (4) enrichment opportunities; (5) safety; (6) service learning; (7) employment; and (8) housing—pertain to youth up to age 24. The framework acknowledges that programs and policies are designed to meet the diverse needs of youth, including the general youth population, youth involved in systems, and special youth populations. The Working Group is focusing on youth across several developmental stages, including (1) early adolescence (ages under 14); (2) middle adolescence (ages 15-17); and (3) late adolescence/early adulthood (ages 18-24). The Working Group is focused on three overarching outcomes for youth through this framework: (1) basic needs: health, safety, and wellness; (2) school, family, and community engagement and connections; and (3) education, training, employment, transitions, and readiness for careers and adulthood.

III. Guiding Questions for Commenters

The Interagency Working Group on Youth Programs has identified a number of questions to focus on, and the Working Group is particularly interested in receiving comments addressing some or all of these questions.

(a) What is the single most important thing youth need to be successful?

(b) What programs really make a difference in the lives of youth? How do you know this?

(c) What are the barriers to collaborating to improving youth outcomes and how can these barriers be removed?

(d) What can Federal agencies do to assist? What are your ideas for Federal policy to improve the coordination, effectiveness, and efficiency of programs affecting youth?

(e) How can youth be engaged in these efforts?

Authority: Division F, Pub. L. 111-8; E.O. 13459, 73 FR 8003, February 12, 2008.

Dated: December 10, 2010.
Sherry Glied,
Assistant Secretary for Planning and Evaluation.

[FR Doc. 2010-31975 Filed 12-20-10; 8:45 am]

BILLING CODE 4154-05-P